DEPARTMENT OF EDUCATION

Notice of Proposed Information Collection Requests

AGENCY: Department of Education.

ACTION: Correction notice.

SUMMARY: On June 8, 2001, a 60-day notice inviting comment from the public was inadvertently published for the Applications for Grants under the Smaller Learning Communities Program in the Federal Register (66 FR 111) dated June 8, 2001. The Department will provide a public comment period once the Notice of Proposed Priority (NPP) is published. This will allow for sufficient time for the public to comment not only on the NPP but also on the information collection activity.

FOR FURTHER INFORMATION CONTACT: Kathy Axt at her internet address Kathy.Axt@ed.gov.

Dated: June 19, 2001.
John Tressler,
Leader, Regulatory Information Management, Office of the Chief Information Officer.

[FR Doc. 01-15803 Filed 6-22-01; 8:45 am]

BILLING CODE 4000-01-U